DEPARTMENT OF THE INTERIOR

Bureau of Land Management

[LLIDB00200 LF20000ES.JS0000 LFESFTF60000]

Notice of Temporary Closures on Public Lands in Ada and Elmore Counties, ID

AGENCY: Bureau of Land Management, Interior.

ACTION: Notice of temporary closure.

SUMMARY: Notice is hereby given that the Big Fire (#FNW4) and Hot Tea Fire (#FTF6) closures to motorized vehicle use are in effect on public lands administered by the Four Rivers Field Office, Bureau of Land Management (BLM).

DATES: The closures will be in effect on the date this notice is published in the Federal Register and will remain in effect for 2 years or until rescinded or modified by the authorized officer or designated Federal officer.

FOR FURTHER INFORMATION CONTACT: Terry Humphrey, Four Rivers Field Manager, at 3948 Development Avenue, Boise, Idaho 83705, via e-mail at terry_humphrey@blm.gov, or phone (208) 384-3430. Persons who use a telecommunications device for the deaf (TDD) may call the Federal Information Relay Service (FIRS) at 1-800-877-8339 to contact the above individuals during normal business hours. The FIRS is available 24 hours a day, 7 days a week, to leave a message or question with the above individual. You will receive a reply during normal business hours.

SUPPLEMENTARY INFORMATION: The Big Fire closure affects public lands located in Ada County, Idaho approximately 3 miles northwest of Eagle, Idaho, which burned on July 28, 2010. The legal description of the affected public lands is:

Boise Meridian, Idaho

T. 5 N., R. 1 W.,

Secs. 22 through 27, inclusive.

T. 5 N., R. 1 E.,

Sec. 19;

Sec. 30.

The areas described contain approximately 1,920 acres.

The Big Fire closure is necessary because occupied and potential habitat for slickspot peppergrass, a species listed as threatened under the Endangered Species Act, is at risk from further damage by motorized vehicles. The closure area includes a designated management area for slickspot peppergrass (MA-2C). The closure will allow burned areas to re-establish a vegetative cover which protects the soil from erosion and provides for moisture retention. The closure will help to ensure the long-term viability of slickspot peppergrass plants and their associated habitat in this area.

The Hot Tea closure affects public lands in Elmore County, Idaho, burned August 27-29, 2010, by the Hot Tea Fire, 12 miles northwest of Mountain Home, Idaho. Unburned public lands in the Thorn Creek Pasture (#4) of the Hammett #6 Allotment and north of the powerline in the Lower Bennett Creek Allotment will also be closed. The legal description of the affected public lands is:

Boise Meridian, Idaho

T. 2 S., R. 8 E.,

Secs. 24 through 26, inclusive;

Secs. 34 through 35, inclusive.

T. 2 S., R. 9 E.,

Secs. 30 through 31, inclusive.

T. 3 S., R. 8 E.,

Sec. 2;

Secs. 12 through 13, inclusive;

Secs. 24 through 25, inclusive.

T. 3 S., R. 9 E.,

Secs. 5 through 8, inclusive;

Secs. 17 through 20, inclusive;

Secs. 28 through 30, inclusive.

The areas described contain approximately 6,900 acres.

The Hot Tea Fire closure is necessary to protect critical winter habitat for elk and mule deer as well as important sage-grouse habitat. The closure will help to slow the spread of noxious weeds; allow planted shrub, forb, and grass species to become established; and allow existing plants to recover from the effects of the fire. The closure will help ensure the long-term viability of habitat for wildlife populations in the area.

The BLM will post closure signs at main entry points to the closed areas and/or other locations on-site. This closure will also be posted in the BLM Boise District office. Maps of the affected area and other documents associated with this closure are available at 3948 Development Avenue, Boise, Idaho 83705. Under the authority of Section 303(a) of the Federal Land Policy and Management Act of 1976 (43 U.S.C. 1733(a)), 43 CFR 8360.0-7, and 43 CFR 8364.1, the BLM will enforce the following rule within the Big Fire and Hot Tea Fire closures:

Motorized Vehicles Must Not Be Used in the Closed Area

Exemptions: The following persons are exempt from this order: Federal, State, and local officers and employees in the performance of their official duties; members of organized rescue or fire-fighting forces in the performance of their official duties; and persons with written authorization from the BLM.

Penalties: Any person who violates the above rule may be tried before a United States Magistrate and fined no more than $1,000, imprisoned for no more than 12 months, or both. Violators may also be subject to the enhanced fines provided for in 18 U.S.C. 3571.

Authority: 43 CFR 8364.1.

Terry Humphrey,
Four Rivers Field Manager.

[FR Doc. 2011-5130 Filed 3-7-11; 8:45 am]

BILLING CODE 4310-GG-P